DEPARTMENT OF LABOR

Employment and Training Administration

[TA-W-65,020]

Asteel Flash, Inc., Fremont, CA; Notice of Termination of Investigation

In accordance with Section 221 of the Trade Act of 1974, as amended, an investigation was initiated on January 29, 2009 in response to a petition filed by a California State Workforce Office representative on behalf of workers of Asteel Flash, Inc., Fremont, California.

The petitioner has requested that the petition be withdrawn. Consequently, the investigation has been terminated.

Signed in Washington, DC, this 20th day of March 2009.
Richard Church,
Certifying Officer, Division of Trade Adjustment Assistance.

[FR Doc. E9-7737 Filed 4-6-09; 8:45 am]

BILLING CODE 4510-FN-P